DEPARTMENT OF AGRICULTURE

Forest Service

Lincoln County Resource Advisory Committee, Libby, MT; Meeting

A meeting of the Lincoln County Resource Advisory Committee will be held as follows:

Time and Date: May 2, 2002, 6:30 p.m.

Place: Kootenai National Forest Supervisor's Office, 1101 U.S. Hwy 2 West, Libby, Montana.

Status: The meeting is open to the public.

Matters to be Considered: Agenda topics will include purpose and scope of the advisory committee, review of the charter, set operational and procedural guidelines, and a public forum (question and answer session). The meeting is being held pursuant to the authorities in the Federal Advisory Committee Act (Public Law 92-463) and under the Secure Rural Schools and Community Self-Determination Act of 2000 (Public Law 106-393).

CONTACT PERSON FOR MORE INFORMATION: Barbara Edgmon, Kootenai National Forest Supervisor's Office, Phone: (406) 293-6211.

Dated: April 3, 2002.
Bob Castaneda,
Forest Supervisor.

[FR Doc. 02-8637 Filed 4-11-02; 8:45 am]

BILLING CODE 3410-11-M